SMALL BUSINESS ADMINISTRATION

[Declaration of Economic Injury Disaster #9N60]

State of Florida

Franklin County and the contiguous counties of Gulf, Liberty and Wakulla in the State of Florida constitute an economic injury disaster loan area as a result of a Florida Red Tide. The Florida Red Tide was confirmed on October 16, 2001 in the waters of Apalachicola Bay, which includes the coast of Franklin County. Eligible small businesses and small agricultural cooperatives without credit available elsewhere may file applications for economic injury assistance as a result of this disaster until the close of business on August 21, 2002 at the address listed below or other locally announced locations: U.S. Small Business Administration, Disaster Area 2 Office, One Baltimore Place, Suite 300, Atlanta, GA 30308.

The interest rate for eligible small businesses and small agricultural cooperatives is 4 percent.

The number assigned for economic injury for the State of Florida is 9N6000.

(Catalog of Federal Domestic Assistance Program No. 59002)
Dated: November 21, 2001.
John Whitmore,
Acting Administrator.

[FR Doc. 01-29807 Filed 11-30-01; 8:45 am]

BILLING CODE 8025-01-P